DEPARTMENT OF STATE

Bureau of European Affairs

[Public Notice 3333]

30-Day Notice of Information Collection: Irish Peace Process Cultural and Training Program

AGENCY: Department of State.

SUMMARY: The Department of State has submitted the following information collection request to the Office of Management and Budget (OMB) for approval in accordance with the Paperwork Reduction Act of 1995. Comments should be submitted to OMB within 30 days of the publication of this notice.

The following summarizes the information collection proposal submitted to OMB:

Type of Request: New Collection.

Originating Office: EUR.

Title of Information Collection: Irish Peace Process Cultural and Training Program (“IPPCTP”).

Frequency: 1.

Form Number: N/A.

Respondents: Entities wishing to provide employment.

Estimated Number of Respondents: 4200.

Average Hours Per Response: (a) Prospective Employers: up to 2 hours in providing employer background information and up to 1 hour in reporting on participants' work experience (for each participant hired by an employer.) (b)

Participants: up to 2 hours in providing background/resume information, a photograph, and tracking information. Where participation originates with an employer nomination, the increase of time required of an employer in providing employee-related information will be offset by a corresponding reduction in the time otherwise required of employees in providing the same information.

Total Estimated Burden: 12,400 hours.

Public comments are being solicited to permit the agency to:

• Evaluate whether the proposed collection of information is necessary for the proper performance of the functions of the agency, including whether the information will have practical utility.

• Evaluate the accuracy of the agency's estimate of the burden of the collection, including the validity of the methodology and assumptions used.

• Enhance the quality, utility, and clarity of the information to be collected.

• Minimize the reporting burden on those who are to respond, including through the use of automated collection techniques or other forms of technology.

FOR FURTHER INFORMATION CONTACT: Copies of the proposed information collection and supporting documents may be obtained from the Officer for Ireland and Northern Ireland Affairs, Bureau of European Affairs (EUR/UBI), Room 4513, U.S. Department of State, Washington, DC 20520, (202) 647-6585. Public comments and questions should be directed to the State Department Desk Officer, Office of Information and Regulatory Affairs, Office of Management and Budget (OMB), Washington, DC 20530, (202) 395-5871.

Dated: May 25, 2000.
William Eaton,
Executive Director, Bureau of European Affairs, Department of State.

[FR Doc. 00-14665 Filed 6-8-00; 8:45 am]

BILLING CODE 4710-23-U